DEPARTMENT OF JUSTICE

Notice of Filing of Proposed Settlement Agreement Regarding Environmental Claims In Connection With Clean Harbors Environmental Services Inc.

On August 31, 2020, a Proposed Consent Decree was filed in the United States District Court of Nebraska in the proceeding entitled United States and State of Nebraska v. Clean Harbors Environmental Services, Inc., et al., Case No. 8:20-cv-351.

Plaintiffs United States of America, on behalf of the United States Environmental Protection Agency (“EPA”), and the State of Nebraska (“State”), acting through the Nebraska Attorney General, on behalf of the Nebraska Department of Environment and Energy (“NDEE”), have filed a complaint in this action concurrently with the Consent Decree, against Defendant, Clean Harbors Environmental Services, Inc. (“Clean Harbors”), seeking civil penalties and injunctive relief the Resource Conservation and Recovery Act (“RCRA”), 42 U.S.C. 6901, et seq., the Clean Air Act (“CAA”), 42 U.S.C. 7401, et seq., the Emergency Planning and Community Right-to-Know Act (“EPCRA”), 42 U.S.C. 11001, et seq., and the Nebraska Environmental Protection Act (“NEPA”), Neb. Rev. Stat. § 81-1501 et seq.

Under the Proposed Consent Decree, Clean Harbors will pay a civil penalty of $790,000, ($498,820 to the United States and $291,180 to the State). Additionally, Clean Harbors will perform injunctive relief to better manage waste handling practices, including developing and implementing plans to better manage waste acceptance, secondary containment, inspections, and its risk management program. Clean Harbors will also conduct an audit under RCRA and the CAA to identify and address any issues with compliance under these statutes.

The publication of this notice opens a period for public comment on the proposed Consent Decree. Comments should be addressed to the Assistant Attorney General, Environment and Natural Resources Division, and should refer to United States and State of Nebraska v. Clean Harbors Environmental Services, Inc., et al., D.J. Ref. No. 90-7-1-11505. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. Alternatively, a paper copy of the Settlement Agreement will be provided upon written request and payment of reproduction costs. Please mail your request and payment to:

Consent Decree Library, U.S. DOJ—ENRD, P.O. Box 7611, Washington, DC 20044-7611.

Please enclose a check or money order for $11.25 (25 cents per page reproduction cost) payable to the United States Treasury.

Susan Akers,
Assistant Section Chief, Environmental Enforcement Section, Environment and Natural Resources Division.

[FR Doc. 2020-19618 Filed 9-3-20; 8:45 am]

BILLING CODE 4410-15-P